DEPARTMENT OF ENERGY

Federal Energy Regulatory Commission

Combined Notice of Filings #1

Take notice that the Commission received the following electric rate filings:

Docket Numbers: ER10-566-005; ER11-3917-005; ER24-2897-001; ER24-2898-001; ER10-2774-007.

Applicants: Arizona Solar One LLC, Mordor ES2 LLC, Mordor ES1 LLC, Mojave Solar LLC, Coso Geothermal Power Holdings, LLC.

Description: Triennial Market Power Analysis for the Southwest Region of Coso Geothermal Power Holdings, LLC, et al.

Filed Date: 12/31/24.

Accession Number: 20241231-5474.

Comment Date: 5 p.m. ET 3/3/25.

Docket Numbers: ER10-2042-055; ER23-944-011; ER10-1942-046; ER17-696-034; ER10-1941-023; ER19-1127-013; ER10-1938-049; ER13-1407-018; ER10-1934-048; ER10-1893-048; ER10-3051-053; ER10-2985-052; ER10-3049-053; ER10-1888-023; ER10-1885-023; ER10-1884-023; ER10-1883-023; ER10-1878-023; ER20-1699-011; ER10-1876-024; ER10-1875-023; ER10-1873-023; ER11-4369-033; ER16-2218-034; ER24-15-003; ER12-1987-021; ER10-1947-024; ER12-2645-016; ER10-1862-048; ER12-2261-022; ER10-1865-021.

Applicants: South Point Energy Center, LLC, Russell City Energy Company, LLC, Power Contract Financing, L.L.C. Pastoria Energy Facility L.L.C., Otay Mesa Energy Center, LLC, O.L.S. Energy-Agnews, Inc., Nova Power, LLC, North American Power Business, LLC, North American Power and Gas, LLC, Metcalf Energy Center, LLC, Los Medanos Energy Center LLC, Los Esteros Critical Energy Facility, LLC, Johanna Energy Center, LLC, Goose Haven Energy Center, LLC, Gilroy Energy Center, LLC, Geysers Power Company, LLC, Delta Energy Center, LLC, Creed Energy Center, LLC, Champion Energy Services, LLC, Champion Energy Marketing LLC, Champion Energy, LLC, CES Marketing X, LLC, CES Marketing IX, LLC, CCFC Sutter Energy, LLC, Calpine Power America—CA, LLC, Calpine King City Cogen, LLC, Calpine Gilroy Cogen, L.P., Calpine Energy Solutions, LLC, Calpine Construction Finance Co., L.P., Calpine Community Energy, LLC, Calpine Energy Services, L.P.

Description: Triennial Market Power Analysis for the Southwest Power Pool Inc. Region of Calpine Energy Services, L.P. et al.

Filed Date: 12/31/24.

Accession Number: 20241231-5471.

Comment Date: 5 p.m. ET 3/3/25.

Docket Numbers: ER12-1470-017; ER16-1833-012; ER10-3026-015.

Applicants: Termoelectrica U.S., LLC, Sempra Gas & Power Marketing, LLC, Energia Sierra Juarez U.S., LLC.

Description: Triennial Market Power Analysis for the Southwest Region of Energia Sierra Juarez U.S., LLC et al.

Filed Date: 12/31/24.

Accession Number: 20241231-5476.

Comment Date: 5 p.m. ET 3/3/25.

Docket Numbers: ER20-59-007; ER15-632-017; ER15-634-017; ER13-291-008; ER19-2287-008; ER10-2756-013; ER14-2939-015; ER15-2728-017; ER10-2201-009; ER19-2294-008; ER16-711-014; ER14-2466-018; ER14-2465-018; ER19-2305-008.

Applicants: Valencia Power, LLC, RE Columbia Two LLC, RE Camelot LLC, Pio Pico Energy Center, LLC, Mesquite Power, LLC, Marina Energy, LLC, Maricopa West Solar PV, LLC, Imperial Valley Solar Company (IVSC) 2, LLC, Griffith Energy LLC, Goal Line L.P., EnergyMark, LLC, Cottonwood Solar, LLC, CID Solar, LLC, AZ Solar 1, LLC.

Description: Triennial Market Power Analysis for the Southwest Region of AZ Solar 1, LLC et al.

Filed Date: 12/31/24.

Accession Number: 20241231-5478.

Comment Date: 5 p.m. ET 3/3/25.

Docket Numbers: ER25-124-001.

Applicants: Illinois Winds LLC.

Description: Notice of Non-Material Change in Status of Illinois Winds LLC.

Filed Date: 12/31/24.

Accession Number: 20241231-5473.

Comment Date: 5 p.m. ET 1/21/25.

Docket Numbers: ER25-875-000.

Applicants: California Independent System Operator Corporation.

Description: § 205(d) Rate Filing: 2025-01-07 Cert. of Concurrence—CAISO, SCE, Coso, & Mordor ES2-Coso Navy 2 to be effective 11/15/2024.

Filed Date: 1/7/25.

Accession Number: 20250107-5148.

Comment Date: 5 p.m. ET 1/28/25.

Docket Numbers: ER25-876-000.

Applicants: Southwest Power Pool, Inc.

Description: § 205(d) Rate Filing: 2829R6 Midwest Energy/Evergy Kansas Central Meter Ag Cancellation to be effective 1/1/2025.

Filed Date: 1/8/25.

Accession Number: 20250108-5037.

Comment Date: 5 p.m. ET 1/29/25.

Docket Numbers: ER25-877-000.

Applicants: PJM Interconnection, L.L.C.

Description: § 205(d) Rate Filing: Amendment to WMPA, SA No. 6980; Queue No. AF2-060 to be effective 3/10/2025.

Filed Date: 1/8/25.

Accession Number: 20250108-5055.

Comment Date: 5 p.m. ET 1/29/25.

Docket Numbers: ER25-878-000.

Applicants: Southern California Edison Company.

Description: § 205(d) Rate Filing: LGIA, Sienna Solar 2 (TOT1046-SA 329) to be effective 1/9/2025.

Filed Date: 1/8/25.

Accession Number: 20250108-5071.

Comment Date: 5 p.m. ET 1/29/25.

Docket Numbers: ER25-879-000.

Applicants: Midcontinent Independent System Operator, Inc.

Description: § 205(d) Rate Filing: 2025-01-08_MSCPA Addition to Zone 13 Schedule 7, 8, 9 to be effective 3/10/2025.

Filed Date: 1/8/25.

Accession Number: 20250108-5078.

Comment Date: 5 p.m. ET 1/29/25.

Docket Numbers: ER25-880-000.

Applicants: PJM Interconnection, L.L.C.

Description: § 205(d) Rate Filing: Amendment to WMPA, SA No. 6022; Queue No. AB1-176 (amend) to be effective 3/10/2025.

Filed Date: 1/8/25.

Accession Number: 20250108-5080.

Comment Date: 5 p.m. ET 1/29/25.

Docket Numbers: ER25-881-000.

Applicants: Duke Energy Carolinas, LLC.

Description: § 205(d) Rate Filing: DEC-PMPA Revised NITSA SA No. 355 to be effective 1/1/2025.

Filed Date: 1/8/25.

Accession Number: 20250108-5106.

Comment Date: 5 p.m. ET 1/29/25.

Docket Numbers: ER25-882-000.

Applicants: PJM Interconnection, L.L.C.

Description: § 205(d) Rate Filing: Original GIA Service Agreement No. 7457; Project Identifier No. AF2-014 to be effective 12/10/2024.

Filed Date: 1/8/25.

Accession Number: 20250108-5163.

Comment Date: 5 p.m. ET 1/29/25.

Take notice that the Commission received the following electric reliability filings:

Docket Numbers: RD25-5-000.

Applicants: North American Electric Reliability Corporation.

Description: Petition of the North American Electric Reliability Corporation for Approval of Proposed Reliability Standards BAL-007-1 and TOP-003-7.

Filed Date: 1/6/25.

Accession Number: 20250106-5245.

Comment Date: 5 p.m. ET 2/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 8, 2025.
Carlos D. Clay,
Acting Deputy Secretary.

[FR Doc. 2025-00765 Filed 1-14-25; 8:45 am]

BILLING CODE 6717-01-P